DEPARTMENT OF ENERGY

Federal Energy Regulatory Commission

[Docket No. RP01-580-000]

Dauphin Island Gathering Partners; Notice of Tariff Filing and Charge Adjustment

September 7, 2001.

Take notice that on August 31, 2001, Dauphin Island Gathering Partners (DIGP) tendered for filing to become part of its FERC Gas Tariff, First Revised Volume No. 1, the following tariff sheet, with an effective date of October 1, 2001:

Fourth Revised Sheet No. 6

DIGP states that this filing is submitted pursuant to Section 154.402(c) of the Commission's Regulations pursuant to FERC Order No. 472 in Docket No. RM87-3-000. DIGP states that it has revised Sheet No. 6 to reflect the ACA unit charge of $0.0021 per Dekatherm as specified by the Commission.

Any person desiring to be heard or to protest said filing should file a motion to intervene or a protest with the Federal Energy Regulatory Commission, 888 First Street, NE., Washington, DC 20426, in accordance with Sections 385.214 or 385.211 of the Commission's Rules and Regulations. All such motions or protests must be filed on or before September 14, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23132 Filed 9-14-01; 8:45 am]

BILLING CODE 6717-01-P